DEPARTMENT OF AGRICULTURE

Forest Service

Proposed Recreation Fee Site

AGENCY: Forest Service, Agriculture (USDA).

ACTION: Notice.

SUMMARY: The Arapaho and Roosevelt National Forests & Pawnee National Grassland are proposing to establish a special recreation permit fee site. Proposed recreation fees collected for the proposed special recreation permit fee site would be used for operation, maintenance, and improvement of the site and the special recreation use covered by the proposed special recreation permit. An analysis of nearby recreation fee sites and special recreation uses with similar amenities shows that the proposed recreation fees that would be charged at the proposed special recreation permit fee site are reasonable and typical of similar recreation fee sites and special recreation uses in the area.

DATES: If approved, the proposed special recreation permit fee site and proposed recreation fees would be established no earlier than six months following the publication of this notice in the Federal Register.

ADDRESSES: Arapaho and Roosevelt National Forests & Pawnee National Grassland, Attention: Recreation Fees, 2150 Centre Avenue, Building E, Fort Collins, CO 80526.

FOR FURTHER INFORMATION CONTACT: Bryce Hoffmann, Recreation Planner, (719) 239-4937, bryce.hofmann@usda.gov.

SUPPLEMENTARY INFORMATION: The Federal Lands Recreation Enhancement Act (16 U.S.C. 6803(b)) requires the Forest Service to publish in the Federal Register a six-month advance notice before establishment of proposed recreation fee sites and proposed special recreation permits. In accordance with Forest Service Handbook 2309.13, chapter 30, the Forest Service will publish the proposed recreation fee site, proposed special recreation permit, and proposed recreation fees in local newspapers and other local publications for public comment. At least 80%of the proposed recreation fees would be spent where they are collected to enhance the visitor experience at the proposed recreation fee site.

A special recreation permit fee is proposed at the Devil's Nose Target Range, with two scenarios. The staffed range scenario is $20 per lane per hour and a half, with a reservation required through www.recreation.gov and includes a range master onsite. The unstaffed range scenario is $10 per lane for all-day, first-come, first-served with no reservation required and no range master onsite. Both scenarios allow one vehicle with up to four people per lane.

Fee revenue would be used to enhance recreation opportunities, improve customer service, and address maintenance needs.

Once public involvement is complete, the proposed recreation fee site, proposed special recreation permit, and proposed recreation fees will be reviewed by a Regional Recreation Resource Advisory Committee prior to a final decision and implementation. Reservations for the shooting range can be made online at www.recreation.gov or by calling 877-444-6777. Reservations would cost $2.00 per reservation for the staffed range scenario. The $2.00 reservation fee associated with the staffed range scenario is charged by the recreation.gov reservation platform and is not a Forest Service recreation fee under the Federal Lands Recreation Enhancement Act. This transaction fee is retained by the service provider to support the cost of the reservation system.

Lisa Northrop,
Associate Deputy Chief State, Private and Tribal Forestry, National Forest System.

[FR Doc. 2025-15804 Filed 8-18-25; 8:45 am]

BILLING CODE 3411-15-P